DEPARTMENT OF DEFENSE

GENERAL SERVICES ADMINISTRATION

NATIONAL AERONAUTICS AND SPACE ADMINISTRATION

48 CFR Chapter 1

[Docket No. FAR-2024-0051, Sequence No. 8]

Federal Acquisition Regulation; Federal Acquisition Circular 2025-03; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2025-03. A companion document, the Small Entity Compliance Guide (SECG), follows this FAC.

DATES: For effective dates see the separate documents, which follow.

ADDRESSES: The FAC, including the SECG, is available at https://www.regulations.gov.

FOR FURTHER INFORMATION CONTACT: The analyst whose name appears in the table below in relation to the FAR case. For information pertaining to status or publication schedules, contact the Regulatory Secretariat Division at 202-501-4755 or GSARegSec@gsa.gov.

Rules Listed in FAC 2025-03
Item | Subject | FAR case | Analyst
I | Improving Consistency Between Procurement and Nonprocurement Procedures on Suspension and Debarment | 2019-015 | Delgado.
II | Rerepresentation of Size and Socioeconomic Status | 2020-016 | Bowman.
III | Subcontracting to Puerto Rican And Covered Territory Small Businesses | 2023-001 | Moore.

SUPPLEMENTARY INFORMATION: Summaries for each FAR rule follow. For the actual revisions and/or amendments made by these FAR rules, refer to the specific item numbers and subjects set forth in the documents following these item summaries. FAC 2025-03 amends the FAR as follows:

Item I—Improving Consistency Between Procurement and Nonprocurement Procedures on Suspension and Debarment (FAR Case 2019-015)

This final rule amends the FAR to improve consistency between the procurement and nonprocurement procedures on suspension and debarment, based on recommendations of the Interagency Suspension and Debarment Committee. The changes in the FAR bring the two systems into closer alignment, enhancing transparency and consistency within the Government's suspension and debarment procedures. This allows contractors a better understanding of how the two systems' procedures relate to each other. The changes are not expected to have a significant economic impact on a substantial number of small entities. It is anticipated that this rule will have a positive impact on small businesses with increased transparency in the process.

Item II—Rerepresentation of Size and Socioeconomic Status (FAR Case 2020-016)

This final rule amends the FAR to implement regulatory changes made by the Small Business Administration to size and socioeconomic status rerepresentation requirements for orders placed against multiple-award contracts. Specifically, business concerns that represented their status as any of the small business concerns identified at FAR 19.000(a)(3) are required to rerepresent their size and/or socioeconomic status for orders set aside—

(1) Under unrestricted multiple-award contracts, unless the order is issued against a reserve for which size and/or status was required.

(2) Under a multiple-award contract that was totally or partially set aside for small businesses, and the order requires a different socioeconomic status.

Federal Supply Schedules (FSS) are exempt from these requirements.

The final rule will help to validate that small businesses qualify for the size and/or socioeconomic status associated with orders placed under certain multiple-award contracts. Also, entities that no longer qualify under the applicable North American Industry Classification System (NAICS) code or the socioeconomic status they claim may not qualify under the applicable NAICS code or socioeconomic status for set-aside orders under the multiple-award contracts subject to this rule.

The final rule is not expected to have a significant economic impact on a substantial number of small entities.

Item III—Subcontracting to Puerto Rican and Covered Territory Small Businesses (FAR Case 2023-001)

This final rule amends the FAR to implement regulatory changes made by the Small Business Administration to implement section 861 of Public Law 115-232 and section 866 of Public Law 116-283, which add incentives for certain U.S. territories under the Small Business Administration mentor-protégé program. This final rule also specifies the entities that are not required to submit subcontracting plans as subcontractors. This final rule is not expected to have a significant impact on a substantial number of small entities; however, it will impact small businesses whose principal office is in the Commonwealth of Puerto Rico or that are covered territory businesses that enter into SBA-approved mentor-protégé agreements.

William F. Clark,
Director, Office of Government-wide Acquisition Policy, Office of Acquisition Policy, Office of Government-wide Policy.
Federal Acquisition Circular (FAC) 2025-03 is issued under the authority of the Secretary of Defense, the Administrator of General Services, and the Administrator of National Aeronautics and Space Administration.
Unless otherwise specified, all Federal Acquisition Regulation (FAR) and other directive material contained in FAC 2025-03 are effective January 17, 2025.
John M. Tenaglia,
Principal Director, Defense Pricing, Contracting, and Acquisition Policy, Department of Defense.
William F. Clark,
Director, Office of Government-wide Acquisition Policy, Office of Acquisition Policy, Office of Government-wide Policy, U.S. General Services Administration.
Marvin L. Horne,
Deputy Assistant Administrator for NASA Procurement, National Aeronautics and Space Administration.

[FR Doc. 2024-31409 Filed 1-2-25; 8:45 am]

BILLING CODE 6820-EP-P